DEPARTMENT OF COMMERCE

Office of the Under Secretary for Economic Affairs

Performance Review Board Membership

AGENCY: Office of the Under Secretary for Economic Affairs, Department of Commerce.

ACTION: Notice.

In accordance with 5 U.S.C. 4314(c)(4), the Office of the Under Secretary for Economic Affairs (OUS/EA) announces the appointment of members who will serve on the OUS/EA Performance Review Board (PRB). The purpose of the PRB is to provide fair and impartial review of senior executive service and senior professional performance ratings, bonus, and pay adjustment recommendations and Presidential Rank Award nominations. The term of each PRB member will expire on December 31, 2021.

DATES: The effective date of service of appointees to the OUS/EA Performance Review Board is based upon publication of this notice.

FOR FURTHER INFORMATION CONTACT: Latasha Ellis, Program Manager, Executive Resources Office, Human Resources Division, Census Bureau, 4600 Silver Hill Road, Washington, DC 20233, 301-763-3727.

SUPPLEMENTARY INFORMATION: The names and position titles of the members of the PRB are set forth below:

John M. Abowd, Associate Director for Research and Methodology, Census Bureau

Ali M. Ahmad, Associate Director for Communications, Census Bureau

Mary E. Bohman, Deputy Director, Bureau of Economic Analysis (BEA)

Gregory Capella, Deputy Director, National Technical Information Service

Paul Farello, Associate Director for International Economics, BEA

Albert Fontenot, Jr., Associate Director for Decennial Census Programs, Census Bureau

Thomas F. Howells III, Associate Director for Industry Accounts, BEA

Kathleen James, Chief Administrative Officer, BEA

Ron Jarmin, Deputy Director, Census Bureau

Enrique Lamas, Senior Advisor to the Deputy Director, Census Bureau

Edith J. McCloud, Associate Director for Management, Minority Business Development Agency

Timothy Olson, Associate Director for Field Operations, Census Bureau

Nick Orsini, Associate Director for Economic Programs, Census Bureau

Benjamin J. Page, Chief Financial Officer, Census Bureau

Jeremy Pelter, Senior Advisor for Policy and Program Integration, Office of the Secretary (OS)

Joel D. Platt, Associate Director for Regional Economics, BEA

Joseph Semsar, Chief of Staff to the Deputy Secretary, OS

Kevin Smith, Chief Information Officer, Census Bureau

Erich Strassner, Associate Director for National Economic Accounts, BEA

Victoria Velkoff, Associate Director for Demographic Programs, Census Bureau

David R. Ziaya, Chief Administrative Officer, Census Bureau

Ron S. Jarmin,
Deputy Director, Census Bureau, Chair, OUS/EA Performance Review Board.

[FR Doc. 2019-22507 Filed 10-15-19; 8:45 am]

BILLING CODE 3510-BS-P